DEPARTMENT OF TRANSPORTATION

Federal Aviation Administration

14 CFR Part 95

[Docket No. 30778; Amdt. No. 493]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, May 5, 2011.

FOR FURTHER INFORMATION CONTACT: Harry Hodges, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 1, 2011.
John M. Allen,
Director, Flight Standards Service.

Adoption of the Amendment

Accordingly, pursuant to the authority delegated to me by the Administrator, part 95 of the Federal Aviation Regulations (14 CFR part 95) is amended as follows effective at 0901 UTC, May 5, 2011.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 493 effective date, May 5, 2011]
From | To | MEA | MAA
§ 95.3000 Low Altitude RNAV Routes
§ 95.3231 RNAV Route T231 Is Amended To Read in Part
*FAIRBANKS, AK VORTAC | HOBOM, AK FIX | 5100 | 17500
*4300—MCA FAIRBANKS, AK VORTAC, W BND
§ 95.3281 RNAV Route T281 Is Added To Read
YOZLE, NE FIX | BOKKI, NE FIX | 4700 | 17500
BOKKI, NE FIX | AINSWORTH, NE VOR/DME | 4600 | 17500
AINSWORTH, NE VOR/DME | LKOTA, SD FIX | 4400 | 17500
LKOTA, SD FIX | PIERRE, SD VORTAC | 4300 | 17500
§ 95.3283 RNAV Route T283 Is Added To Read
SCOTTSBLUFF, NE VORTAC | GORDON, NE NDB | 6300 | 17500
GORDON, NE NDB | WNDED, SD FIX | *5500 | 17500
*5000—MOCA
WNDED, SD FIX | PIERRE, SD VORTAC | 5000 | 17500
§ 95.3285 RNAV Route T285 Is Added To Read
NORTH PLATTE, NE VORTAC | THEDFORD, NE VOR/DME | 5000 | 17500
THEDFORD, NE VOR/DME | MARSS, NE FIX | 4900 | 17500
MARSS, NE FIX | VALENTINE, NE NDB | 4800 | 17500
VALENTINE, NE NDB | LKOTA, SD FIX | 4500 | 17500
LKOTA, SD FIX | WINNER, SD VOR | 4300 | 17500
WINNER, SD VOR | HURON, SD VORTAC | 4000 | 17500
§ 95.3286 RNAV Route T286 Is Added To Read
RAPID CITY, SD VORTAC | GORDON, NE NDB | 5700 | 17500
GORDON, NE NDB | EFFEX, NE FIX | 5600 | 17500
EFFEX, NE FIX | THEDFORD, NE VOR/DME | 5400 | 17500
THEDFORD, NE VOR/DME | BOKKI, NE FIX | 4900 | 17500
BOKKI, NE FIX | GRAND ISLAND, NE VORTAC | 4600 | 17500
§ 95.3288 RNAV Route T288 Is Added To Read
RAPID CITY, SD VORTAC | WNDED, NE FIX | 5000 | 17500
WNDED, NE FIX | VALENTINE, NE NDB | 5000 | 17500
VALENTINE, NE NDB | AINSWORTH, NE VOR/DME | *4700 | 17500
*4200—MOCA
AINSWORTH, NE VOR/DME | FESNT, NE FIX | 4500 | 17500
FESNT, NE FIX | WOLBACH, NE VORTAC | 4300 | 17500
§ 95.4000 High Altitude RNAV Routes
§ 95.4120 RNAV Route Q120 Is Added To Read
SACRAMENTO, CA VORTAC | ZORUN, NV FIX | #*18000 | 45000
*18000—GNSS MEA
#DME/DME/IRU MEA
ZORUN, NV FIX | GALLI, NV FIX | #*24000 | 45000
*18000—GNSS MEA
#DME/DME/IRU MEA
GALLI, NV FIX | BIG PINEY, WY VOR/DME | #*23000 | 45000
*18000—GNSS MEA
#DME/DME/IRU MEA
BIG PINEY, WY VOR/DME | FOSIG, SD FIX | #*23000 | 45000
*18000—GNSS MEA
#DME/DME/IRU MEA
FOSIG, SD FIX | REDWOOD FALLS, MN VOR/DME | #*18000 | 45000
*18000—GNSS MEA
#DME/DME/IRU MEA
§ 95.4121 RNAV Route Q121 Is Added To Read
PARZZ, NV FIX | POCATELLO, ID VOR/DME | #*24000 | 45000
*18000—GNSS MEA
#DME/DME/IRU MEA
POCATELLO, ID VOR/DME | TOUGH, MT FIX | #*24000 | 45000
*18000—GNSS MEA
#DME/DME/IRU MEA
§ 95.4122 RNAV Route Q122 Is Added To Read
MOGEE, CA FIX | MACUS, NV FIX | #*18000 | 45000
*18000—GNSS MEA
#DME/DME/IRU MEA
MACUS, NV FIX | MCORD, NV FIX | #*28000 | 45000
*18000—GNSS MEA
#DME/DME/IRU MEA
MCORD, NV FIX | LUCIN, UT VORTAC | #*28000 | 45000
*18000—GNSS MEA
#DME/DME/IRU MEA
LUCIN, UT VORTAC | BEARR, UT FIX | #*28000 | 45000
*18000—GNSS MEA
#DME/DME/IRU MEA
BEARR, UT FIX | KURSE, WY FIX | #*28000 | 45000
*18000—GNSS MEA
#DME/DME/IRU MEA
KURSE, WY FIX | O'NEILL, NE VORTAC | #*21000 | 45000
*18000—GNSS MEA
#DME/DME/IRU MEA
O'NEILL, NE VORTAC | FORT DODGE, IA VORTAC | #*18000 | 45000
*18000—GNSS MEA
#DME/DME/IRU MEA
§ 95.4123 RNAV Route Q123 Is Added To Read
PARZZ, NV FIX | COKEE, MT FIX | #*24000 | 45000
*18000—GNSS MEA
#DME/DME/IRU MEA
§ 95.4124 RNAV Route Q124 Is Added To Read
MOGEE, CA FIX | MACUS, NV FIX | #*18000 | 45000
*18000—GNSS MEA
#DME/DME/IRU MEA
MACUS, NV FIX | MCORD, NV FIX | #*28000 | 45000
*18000—GNSS MEA
#DME/DME/IRU MEA
MCORD, NV FIX | SLOWN, NV FIX | #*28000 | 45000
*18000—GNSS MEA
#DME/DME/IRU MEA
SLOWN, NV FIX | FASTE, NV FIX | #*28000 | 45000
*18000—GNSS MEA
#DME/DME/IRU MEA
FASTE, NV FIX | BONNEVILLE, UT VORTAC | #*23000 | 45000
*18000—GNSS MEA
#DME/DME/IRU MEA
BONNEVILLE, UT VORTAC | WAATS, UT FIX | #*18000 | 45000
*18000—GNSS MEA
#DME/DME/IRU MEA
§ 95.4125 RNAV Route Q125 Is Added To Read
PARZZ, NV FIX | WLLES, MT FIX | #*24000 | 45000
*18000—GNSS MEA
#DME/DME/IRU MEA
§ 95.4126 RNAV Route Q126 Is Added To Read
TIPRE, CA FIX | INSLO, NV FIX | #*21000 | 45000
*18000—GNSS MEA
#DME/DME/IRU MEA
INSLO, NV FIX | GAROT, UT FIX | #*26000 | 45000
*18000—GNSS MEA
#DME/DME/IRU MEA
GAROT, UT FIX | MEEKER, CO VOR/DME | #*19000 | 45000
*18000—GNSS MEA
#DME/DME/IRU MEA
§ 95.4128 RNAV Route Q128 Is Added To Read
LINDEN, CA VORTAC | JSICA, NV FIX | #*18000 | 45000
*18000—GNSS MEA
#DME/DME/IRU MEA
JSICA, NV FIX | EDLES, UT FIX | #*24000 | 45000
*18000—GNSS MEA
#DME/DME/IRU MEA
EDLES, UT FIX | FLOOD, CO FIX | #*24000 | 45000
*18000—GNSS MEA
#DME/DME/IRU MEA
FLOOD, CO FIX | ZAROS, CO FIX | #*20000 | 45000
*18000—GNSS MEA
#DME/DME/IRU MEA
ZAROS, CO FIX | BARTLESVILLE, OK VOR/DME | #*18000 | 45000
*18000—GNSS MEA
#DME/DME/IRU MEA
BARTLESVILLE, OK VOR/DME | RAZORBACK, AR VORTAC | #*18000 | 45000
*18000—GNSS MEA
#DME/DME/IRU MEA
RAZORBACK, AR VORTAC | PAMMO, AR FIX | #*18000 | 45000
*18000—GNSS MEA
#DME/DME/IRU MEA
PAMMO, AR FIX | MEMPHIS, TN VORTAC | #*18000 | 45000
*18000—GNSS MEA
#DME/DME/IRU MEA
§ 95.4130 RNAV Route Q130 Is Added To Read
LINDEN, CA VORTAC | JSICA, NV FIX | #*18000 | 45000
*18000—GNSS MEA
#DME/DME/IRU MEA
JSICA, NV FIX | REANA, NV FIX | #*29000 | 45000
*18000—GNSS MEA
#DME/DME/IRU MEA
REANA, NV FIX | MRRNY, UT FIX | #*28000 | 45000
*18000—GNSS MEA
#DME/DME/IRU MEA
MRRNY, UT FIX | RATTLESNAKE, NM VORTAC | #*22000 | 45000
*18000—GNSS MEA
#DME/DME/IRU MEA
RATTLESNAKE, NM VORTAC | DIXAN, NM FIX | #*22000 | 45000
*18000—GNSS MEA
#DME/DME/IRU MEA
DIXAN, NM FIX | MIRME, NM FIX | #*22000 | 45000
*18000—GNSS MEA
#DME/DME/IRU MEA
MIRME, NM FIX | PANHANDLE, TX VORTAC | #*18000 | 45000
*18000—GNSS MEA
#DME/DME/IRU MEA
§ 95.4132 RNAV Route Q132 Is Added To Read
WEBGO, CA FIX | ANAHO, NV FIX | #*18000 | 45000
*18000—GNSS MEA
#DME/DME/IRU MEA
ANAHO, NV FIX | MYBAD, NV FIX | #*18000 | 45000
*18000—GNSS MEA
#DME/DME/IRU MEA
MYBAD, NV FIX | ZERAM, NV FIX | #*18000 | 45000
*18000—GNSS MEA
#DME/DME/IRU MEA
ZERAM, NV FIX | MAGPY, NV FIX | #*26000 | 45000
*18000—GNSS MEA
#DME/DME/IRU MEA
§ 95.4134 RNAV Route Q134 Is Added To Read
DUGLE, CA FIX | TATOO, NV FIX | #*20000 | 45000
*18000—GNSS MEA
#DME/DME/IRU MEA
TATOO, NV FIX | JULIK, UT FIX | #*24000 | 45000
*18000—GNSS MEA
#DME/DME/IRU MEA
JULIK, UT FIX | HERSH, UT FIX | #*21000 | 45000
*18000—GNSS MEA
#DME/DME/IRU MEA
HERSH, UT FIX | VOAXA, CO FIX | #*21000 | 45000
*18000—GNSS MEA
#DME/DME/IRU MEA
§ 95.4136 RNAV Route Q136 Is Added To Read
COALDALE, NV VORTAC | RUMPS, NV FIX | #*24000 | 45000
*18000—GNSS MEA
#DME/DME/IRU MEA
RUMPS, NV FIX | KATTS, NV FIX | #*24000 | 45000
*18000—GNSS MEA
#DME/DME/IRU MEA
KATTS, NV FIX | WEEMN, UT FIX | #*26000 | 45000
*18000—GNSS MEA
#DME/DME/IRU MEA
WEEMN, UT FIX | VOAXA, CO FIX | #*21000 | 45000
*18000—GNSS MEA
#DME/DME/IRU MEA
§ 95.4138 RNAV Route Q138 Is Added To Read
WILLIAMS, CA VORTAC | FIMUV, CA FIX | #*18000 | 45000
*18000—GNSS MEA
#DME/DME/IRU MEA
FIMUV, CA FIX | JENSA, NV FIX | #*22000 | 45000
*18000—GNSS MEA
#DME/DME/IRU MEA
JENSA, NV FIX | PUHGI, NV FIX | #*24000 | 45000
*18000—GNSS MEA
#DME/DME/IRU MEA
PUHGI, NV FIX | ROOHZ, NV FIX | #*24000 | 45000
*18000—GNSS MEA
#DME/DME/IRU MEA
ROOHZ, NV FIX | PARZZ, NV FIX | #*24000 | 45000
*18000—GNSS MEA
#DME/DME/IRU MEA
PARZZ, NV FIX | UROCO, WY FIX | #*24000 | 45000
*18000—GNSS MEA
#DME/DME/IRU MEA
UROCO, WY FIX | RICCO, WY FIX | #*24000 | 45000
*18000—GNSS MEA
#DME/DME/IRU MEA
RICCO, WY FIX | MOTLY, SD FIX | #*24000 | 45000
*18000—GNSS MEA
#DME/DME/IRU MEA
MOTLY, SD FIX | ABERDEEN, SD VOR/DME | #*24000 | 45000
*18000—GNSS MEA
#DME/DME/IRU MEA

From | To | MEA
§ 95.6001 VICTOR Routes—U.S.
§ 95.6012 VOR Federal Airway V12 Is Amended To Read in Part
HARRISBURG, PA VORTAC | BOBSS, PA FIX | 3100
BOBSS, PA FIX | POTTSTOWN, PA VORTAC | 3000
§ 95.6013 VOR Federal Airway V13 Is Amended To Read in Part
MC ALLEN, TX VOR/DME | *MANNY, TX FIX | **5000
*5000—MRA
**1700—MOCA
§ 95.6044 VOR Federal Airway V44 Is Amended To Read in Part
BENDS, WV FIX | MORGANTOWN, WV VORTAC | 4000
§ 95.6056 VOR Federal Airway V56 Is Amended To Read in Part
COLUMBUS, GA VORTAC | *PRATZ, GA FIX | 2500
*3000—MRA
PRATZ, GA FIX | #MACON, GA VORTAC | *2500
*GNSS MEA
#MACON R-265 UNUSABLE GNSS REQUIRED
§ 95.6070 VOR Federal Airway V70 Is Amended To Read in Part
RAYMO, TX FIX | JIMIE, TX FIX | *4000
*1600—MOCA
§ 95.6138 VOR Federal Airway V138 Is Amended To Read in Part
BRADY, NE FIX | GAMBL, NE FIX | 4100
§ 95.6159 VOR Federal Airway V159 Is Amended To Read in Part
VIRGINIA KEY, FL VOR/DME | NITNY, FL FIX | 2100
§ 95.6162 VOR Federal Airway V162 Is Amended To Read in Part
HARRISBURG, PA VORTAC | BOBSS, PA FIX | 3100
§ 95.6195 VOR Federal Airway V195 Is Amended To Read in Part
MANTECA, CA VOR/DME | TRACY, CA FIX
NE BND |  | 2500
SW BND |  | 4000
TRACY, CA FIX | SUNOL, CA FIX | 5200
*RAGGS, CA FIX | **BESSA, CA FIX | **8500
*8500—MRA
**8500—MCA BESSA, CA FIX, S BND
**4800—MOCA
§ 95.6198 VOR Federal Airway V198 Is Amended To Read in Part
EAGLE LAKE, TX VOR/DME | BLUMS, TX FIX | 2000
§ 95.6243 VOR Federal Airway V243 Is Amended To Read in Part
LAGRANGE, GA VORTAC | HEFIN, AL FIX | *4000
*3400—MOCA
§ 95.6257 VOR Federal Airway V257 Is Amended To Read in Part
PHOENIX, AZ VORTAC | *AVENT, AZ FIX
NW BND |  | 7000
SE BND |  | 5000
*8000—MRA
§ 95.6266 VOR Federal Airway V266 Is Amended To Read in Part
SOUTH BOSTON, VA VORTAC | LAWRENCEVILLE, VA VORTAC | *3000
*2000—MOCA
*2300—GNSS MEA
LAWRENCEVILLE, VA VORTAC | FRANKLIN, VA VORTAC | 2000
§ 95.6321 VOR Federal Airway V321 Is Amended To Read in Part
LAGRANGE, GA VORTAC | HEFIN, AL FIX | *4000
*3400—MOCA
§ 95.6520 VOR Federal Airway V520 Is Amended To Read in Part
SALMON, ID VOR/DME | *DUBOIS, ID VORTAC | 13500
*9000—MCA DUBOIS, ID VORTAC, E BND
*10500—MCA DUBOIS, ID VORTAC, W BND
§ 95.6524 VOR Federal Airway V524 Is Amended To Read in Part
LARAMIE, WY VOR/DME | SCOTTSBLUFF, NE VORTAC | *12000
*10900—MOCA
*11000—GNSS MEA
§ 95.6533 VOR Federal Airway V533 Is Amended To Read in Part
LAKELAND, FL VORTAC | *CAMBE, FL FIX | 2000
*4000—MRA
*CAMBE, FL FIX | ORLANDO, FL VORTAC | 2000
*4000—MRA
§ 95.6558 VOR Federal Airway V558 Is Amended To Read in Part
EAGLE LAKE, TX VOR/DME | BLUMS, TX FIX | 2000
§ 95.8003 VOR Federal Airway Changeover Points

Airway segment: From | Airway segment: To | Changeover points: Distance | Changeover points: From
V140 Is Amended To Delete Changeover Point
BLUEFIELD, WV VORTAC | MONTEBELLO, VA VOR/DME | 44 | Bluefield
V266 Is Amended To Modify Changeover Point
SOUTH BOSTON, VA VORTAC | LAWRENCEVILLE, VA VORTAC | 38 | South Boston
§ 95.8005 Jet Route Changeover Points
J120 Is Amended To Modify Changeover Point
ST PAUL ISLAND, AK | BETHEL, AK VORTAC | 190 | St Paul Island
NDB/DME

[FR Doc. 2011-9221 Filed 4-15-11; 8:45 am]

BILLING CODE 4910-13-P